DEPARTMENT OF JUSTICE

Notice of Lodging of Consent Decree Under the Clean Air Act

Under 28 CFR 50.7, notice is hereby given that on March 7, 2003, a proposed Consent Decree in United States v. Toyota Motor Corporation, et al., Civil Action No. 99-1888, was lodged with the United States District Court for the District of Columbia.

In this action the United States sought civil penalties and injunctive relief for the alleged failure by Toyota to disclose in its applications for certificates of conformity certain limitations in the operation of that part of its vehicles' on-board diagnostic system that checks for leaks in the vehicles' evaporative emission control system. The allegations concern approximately 2.2 million model year 1996 to 1998 Toyota vehicles. Under the proposed Consent Decree, Toyota will: (a) Extend the warranty on the evaporative emission control systems in the 2.2 million affected vehicles from the current two years or 24,000 miles to 14 years or 150,000 miles; (b) accelerate the timetable on which it will certify to EPA and introduce vehicles in the United States that comply with the EPA near-zero evaporative emissions standards specified in 40 CFR 86.1811-04(e); (c) pay a $500,000 civil penalty; and (d) implement a supplemental environmental project, at a cost of $20 million, that comprises the retrofit of in-service diesel fleet vehicles with emissions control equipment in order to reduce particulate and hydrocarbon emissions from such vehicles and the procurement of ultra low-sulfur diesel fuel for use in the retrofitted diesel vehicles.

The Department of Justice will receive for a period of thirty (30) days from the date of this publication comments relating to the Consent Decree. Comments should be addressed to the Assistant Attorney General, Environment and Natural Resources Division, PO Box 7611, U.S. Department of Justice, Washington, DC 20044-7611, and should refer to United States v. Toyota Motor Corporation, et al., D.J. Ref. 90-5-2-1-2247.

The Consent Decree may be examined at the Office of the United States Attorney, 555 4th Street, NW., Room 10-120, Washington, DC 20001, and at the EPA Docket Center, (EPA/DC) EPA West, Room B102, 1301 Constitution Ave., NW., Washington, DC. During the public comment period, the Consent Decree also may be examined on the following Department of Justice Web site, http://www.usdoj.gov/enrd/open.html. A copy of the Consent Decree may also be obtained by mail from the Consent Decree Library, PO Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $8.00 (25 cents per page reproduction cost) payable to the U.S. Treasury.

Karen Dworkin,
Assistant Section Chief, Environmental Enforcement Section, Environment and Natural Resources Division.

[FR Doc. 03-7293 Filed 3-26-03; 8:45 am]

BILLING CODE 4410-15-M